DEPARTMENT OF TRANSPORTATION

Federal Railroad Administration

Notice and Request for Comments

SUMMARY: In compliance with the Paperwork Reduction Act of 1995 (44 U.S.C. 3501 et seq.), this notice announces that the Information Collection Requirement (ICR) abstracted below has been forwarded to the Office of Management and Budget (OMB) for review and comment. The ICR describes the nature of the information collection and its expected burden. The Federal Register notice with a 60-day comment period soliciting comments on the following collection of information was published on August 23, 2007 (72 FR 48315).

DATES: Comments must be submitted on or before December 3, 2007.

FOR FURTHER INFORMATION CONTACT: Mr. Robert Brogan, Office of Safety, Planning and Evaluation Division, RRS-21, Federal Railroad Administration, 1120 Vermont Ave., NW., Mail Stop 25, Washington, DC 20590 (telephone: (202) 493-6292), or Ms. Gina Christodoulou, Office of Support Systems Staff, RAD-43, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law 104-13, Section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On August 23, 2007, FRA published a 60-day notice in the Federal Register soliciting comment on ICRs that the agency was seeking OMB approval. 72 FR 48315. FRA received two comments after issuing this notice.

The first comment was submitted by Donald M. Hahs, National President, on behalf of the Brotherhood of Locomotive Engineers and Trainmen (BLET), who expressed whole hearted support for the proposed study. The BLET is a Division of the Rail Conference of the International Brotherhood of Teamsters, and is the duly designated and recognized collective bargaining representative for the craft or class of Locomotive Engineer employed on all Class I railroads. BLET also represents operating and other employees on numerous Class II and Class III railroads. In his letter, Mr. Hahs remarked:

* * * The proposed activity will involve the participation of BLET members, and I am pleased to support the activity and strongly urge its approval by OMB.

The BLET has long been in the forefront of efforts to combat fatigue among its members and operating crews. Our activities include numerous cooperative ventures with the nation's railroad carriers and with FRA, as well as proposing and advocating legislative remedies designed to combat fatigue. We have followed previous FRA studies—involving other crafts—with interest and have found the results of those studies helpful to our endeavors.

Moreover, we fully support and have actively provided assistance in designing the proposed activity. In our opinion, the activity has significant scientific validity and will produce meaningful data for use in future fatigue-mitigation efforts by BLET and all railroad industry stakeholders. We are satisfied that adequate safeguards are in place to protect all legitimate confidentiality interests, and we look forward to OMB approval and implementation of the information collection.

The second comment was submitted by Paul C. Thompson, International President, on behalf of the United Transportation Union (UTU), who completely endorsed the proposed study. The UTU represents approximately 65,000 railroad employees who work in the operating crafts on the nation's railroads today. In his letter, Mr. Thompson noted:

* * * This FRA proposed study will focus on train and engine service employees, which consists of locomotive engineers, conductors, remote control operators, and switchmen. Fatigue is a major safety concern for our operating crews today, and UTU fully supports this study ‘to develop an understanding of the work schedule-related fatigue issues that affect these operating crafts.’

This study will be very similar in both method and scope to the recently completed studies of railroad signalmen, maintenance of way employees, and train dispatchers.

In response to the Federal Register Notice and request for comments published on August 23, 2007, UTU files the following supportive comments:

• The proposed collection of information is necessary to assist the Department in furthering its understanding of work-schedule related fatigue issues affecting railroad train and engine employees. This information will provide the Department with the means to evaluate the overall impact of work/rest scheduling practices in the railroad industry.

• The collected information will have practical utility to the Department in its ongoing effort to analyze and combat work-schedule related fatigue within the railroad industry.

• The methodology proposed for this information collection activity is suitable and appropriate for the study and the respondent population, and will facilitate the collection of high quality data with high utility.

• The proposed information collection activity has been designed to be minimally burdensome on respondents. The proposed information collection activity is of limited duration and is compatible with the work environment where the data will be recorded by respondents.

Neither BLET nor UTU addressed the issue of burden hour estimates or burden cost estimates. After carefully reviewing these comments, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden, and are being submitted for clearance by OMB as required by the PRA.

Title: Work Schedules and Sleep Patterns of Train and Engine Service Employees.

OMB Control Number: 2130-NEW.

Type of Request: New collection.

Affected Public: Rail Workers.

Abstract: In a continuing effort to improve rail safety and to reduce the number of injuries and fatalities to rail workers, the issue of fatigue has received considerable attention from both FRA and the railroad industry. One of FRA's fatigue-related activities has been a series of studies designed to document and characterize the work/rest schedules and sleep patterns in signalmen, maintenance-of-way workers, and dispatchers. These studies used the methodology approved by the Office of Management and Budget (OMB), including random selection of participants to ensure a representative sample of each group. FRA has not yet collected data from two critically important labor crafts whose work schedules are regulated by FRA, locomotive engineers and conductors.

FRA is proposing a study that will focus on train and engine service employees, which consists of locomotive engineers, conductors, remote control operators, and switchmen. FRA seeks to develop an understanding of the work schedule-related fatigue issues that affect these operating crafts. The project will be very similar in both method and scope to the recently completed studies of railroad signalmen, maintenance of way employees, and dispatchers. The FRA proposes to undertake this study to develop an understanding of the work schedule-related fatigue issues for train and engine service employees.

The proposed study has two primary purposes:

• To document and characterize the work/rest schedules and sleep patterns of train and engine service employees.

• To examine the relationship between these schedules and level of alertness/fatigue for the individuals who work these schedules.

The intent is to report results in aggregate, not by railroad.

Subjective ratings from participants of their alertness/sleepiness on both work and non-work days will be an integral part of this study. The data will be collected through the use of a daily diary or log, as well as a brief background questionnaire for each participant. Analysis of the diary data will allow the FRA to assess the extent of any work-related fatigue issues for train and engine service employees. The proposed study will provide a defensible and definitive estimate of the work/rest cycle parameters and fatigue in train and engine service employees that will inform future FRA regulatory policy and action.

Form Number(s): FRA F 6180.127; FRA F 6180.128.

Affected Public: Rail Workers.

Respondent Universe: 340 Train and Engine Service Employees.

Frequency of Submission: On occasion.

Annual Estimated Burden Hours: 878 hours.

Status: Regular Review.

Addressee: Send comments regarding this information collection to the Office of Information and Regulatory Affairs, Office of Management and Budget, 725 Seventeenth Street, NW., Washington, DC 20503, Attention: FRA Desk Officer.

Comments are invited on the following: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment to OMB is best assured of having its full effect if OMB receives it within 30 days of publication of this notice in the Federal Register.

Authority: 44 U.S.C. 3501-3520.

Issued in Washington, DC on October 25, 2007 .
D.J. Stadtler,
Director, Office of Financial Management, Federal Railroad Administration.

[FR Doc. E7-21476 Filed 10-31-07; 8:45 am]

BILLING CODE 4910-06-P